INTERNATIONAL TRADE COMMISSION

[Investigation No. 337-TA-732]

In the Matter of Certain Devices Having Elastomeric Gel and Components Thereof; Notice of Commission Determination Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 5) of the presiding administrative law judge (“ALJ”) granting a motion to amend the complaint and notice of investigation.

FOR FURTHER INFORMATION CONTACT: Mark B. Rees, Office of the General Counsel, U.S. International Trade Commission, 500 E Street, SW., Washington, DC 20436, telephone (202) 205-3116. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On August 4, 2010, the Commission instituted this investigation based on the complaint, as supplemented, of Interactive Life Forms, LLC of Austin, Texas (“ILF”). 75 FR 47027 (Aug. 4, 2010). The complaint alleges violations of section 337 of the Tariff Act of 1930, as amended (19 U.S.C. 1337), based upon the importation into the United States, the sale for importation, and the sale within the United States after importation of certain devices having elastomeric gel and components thereof by reason of infringement of certain claims of U.S. Patent No. 5,782,818 and U.S. Patent No. 5,807,360. The complaint alleges the existence of an industry in the United States as required by section 337(a)(2), names twenty six business entities as respondents (a number of which have been terminated from the investigation based on consent order stipulations and consent orders), and requests relief in the form of an exclusion order and cease and desist orders.

On August 25, 2010, ILF moved for leave to amend the complaint and notice of investigation based upon information learned after the complaint's filing. Specifically, ILF sought to add two respondents, Easybuy Inc. d/b/a Blush Novelties (135-42 39th Ave., 3rd Floor, Flushing, New York) and Spencer Gifts, LLC (6826 Black Horse Pike, Egg Harbor Township, New Jersey), and to correct the identification of two respondents, TEG, L.L.C., whose correct address is 11 Perimeter Center East, #1215, Atlanta, Georgia, and One Up Innovations, Inc., 2745 Bankers Industrial Drive, Atlanta, Georgia, which had been misidentified as Liberator, Inc. The Commission investigative attorney filed a response in support of the motion.

On September 20, 2010, the ALJ issued the subject ID. He found that ILF demonstrated good cause for each requested amendment and therefore granted the motion. No petitions for review of the subject ID were filed.

The Commission has determined not to review the subject ID.

This action is taken under the authority of section 337 of the Tariff Act of 1930, as amended, 19 U.S.C. 1337, and Commission rules 210.21, 210.42, 19 CFR 210.21, 210.42.

By order of the Commission.
Issued: October 14, 2010.
William R. Bishop,
Acting Secretary to the Commission.

[FR Doc. 2010-26334 Filed 10-19-10; 8:45 am]

BILLING CODE P